DEPARTMENT OF HEALTH AND HUMAN SERVICES

Administration for Children and Families

Office of Refugee Resettlement; Wilson/Fish Discretionary Grant Program

Funding Opportunity Title: Wilson/Fish Discretionary Grant Program.

Announcement Type: Standing.

Funding Opportunity Number: HHS-2004-ACF-ORR-RW-0005.

Category of Funding Activity: ISS Income Security and Social Services.

CFDA Number: 93.583.

Due Dates for Applications: This is a standing announcement applicable from the date of publication until canceled or modified by the Director of the Office of Refugee Resettlement. The closing date for new projects is January 31 of each year. The closing date for existing projects that are applying to begin a new project period is April 30 of each year. Under Category One, if a State withdraws from the program, the Director may invite applications outside of the proposed closing date, if necessary, to respond to the needs of the State's refugee population.

I. Funding Opportunity Description

Executive Summary: The Office of Refugee Resettlement (ORR) announces that applications will be accepted from public and private non-profit organizations, including faith-based and community organizations, under a standing announcement for Wilson/Fish projects which propose alternative approaches to serving refugees.¹ The purpose of Wilson/Fish projects is to provide integrated services and cash assistance to refugees in order to increase refugees' prospects for early employment and self-sufficiency, reduce their level of welfare dependence and promote coordination among voluntary resettlement agencies and service providers. Projects will be accepted under either of two categories: (1) Projects to establish or maintain a refugee program in a State where the State is not participating in the refugee program or is withdrawing from the refugee program or a portion of the program; and (2) projects to provide an alternative to the existing system of assistance and services to refugees. Funding is available to these projects under the “Wilson/Fish” authority. This notice replaces the notice published in the Federal Register of April 22, 1999 (64 FR 19793).

¹ Eligibility for Wilson-Fish includes refugees, asylees, Cuban and Haitian entrants, certain Amerasians from Vietnam who are admitted to the U.S. as immigrants, certain Amerasians from Vietnam who are U.S. citizens, and victims of a severe form of trafficking who receive certification or eligibility letters from ORR. (See Part I of this notice on “Legislative Authority,” and refer to 45 CFR 400.43 and the ORR State Letter #01-13 on the Trafficking Victims Protection Act dated May 3, 2001, located at http://www.acf.dhhs.gov/programs/orr/policy/sl01-13.htm, as modified by ORR State Letter #02-01 dated January 4, 2002, located at http://www.acf.dhhs.gov/programs/orr/policy/sl02-01.htm). The term “refugee,” used in this notice for convenience, is intended to encompass these additional persons who are eligible to participate in refugee program services, including the Wilson-Fish program.

The Office of Refugee Resettlement (ORR) announces that applications will be accepted from public and private non-profit organizations including faith-based and community organizations, under this standing announcement for Wilson/Fish projects which propose alternative approaches to serving refugees. Projects will be accepted under either of two categories: (1) Projects to establish or maintain a refugee program in a State where the State is not participating in the refugee program or is withdrawing from the refugee program or a portion of the program; and (2) projects to provide an alternative to the existing system of assistance and services to refugees.

Category One of this announcement provides an opportunity for an applicant(s) to continue the provision of refugee program services and assistance, including refugee cash and medical assistance, employment and other social services and targeted assistance in a State when the State elects to discontinue participation in the program or is not currently participating in the program. This category may also be used when a State elects to cease participation in all of the above components except for medical assistance and preventive health and where the Director of ORR believes that continued resettlement of refugees in that State is in the best interests of the government. A consortium of voluntary agencies, a lead voluntary agency, or another public or private non-profit agency may apply to administer and provide services and assistance to refugees in the State or local geographic area.

Category Two provides interested applicants an opportunity to implement alternative projects to promote refugee self-sufficiency. Some examples include: (1) Where assistance and services for refugees receiving refugee cash assistance (RCA) and those receiving Temporary Assistance for Needy Families (TANF) could be provided in a better coordinated, effective, and efficient manner; (2) where TANF-eligible refugees may not have access to timely, culturally and linguistically compatible services or employment and training programs; (3) where the regulatory options for delivery of services and assistance to refugees do not present the most effective resettlement in that location, and where resettlement could be made more effective through the implementation of an alternative project; (4) where refugees, particularly in two-parent families, are in danger of becoming dependent upon welfare and using the full-time period of assistance allowed under the TANF program in a State, thereby removing the ability of the family to access TANF as a safety net in the future; (5) where the continuity of services from the time of arrival until the attainment of self-sufficiency needs to be strengthened; or (6) where it is in the best interest of refugees to receive assistance and services outside the traditional welfare system.

At a minimum, applicants are expected to propose a range of services and financial assistance generally comparable to those currently available to eligible refugees in the State. Applicants in Category One may propose to transfer and serve in the Wilson/Fish project those clients who have not completed their period of eligibility under the existing RCA program. Applicants in Category Two must propose an alternative project for refugees in one or more geographic areas and cover, at a minimum, all newly arriving refugees in a geographic area of the cash assistance type proposed, e.g., all refugees otherwise eligible for RCA and/or TANF (referred to as “RCA-type” or “TANF-type” refugees). No projects in either category may propose transferring to the Wilson/Fish project refugees who are already enrolled in the TANF program.

Services and assistance under these awards are intended to help refugees attain self-sufficiency within the period of support defined by 45 CFR 400.211. This period is currently eight months after arrival. We expect that most funded projects funded will provide services and assistance to refugees for this period of time, as needed.

ORR will entertain proposals, subject to the availability of appropriated funds, to provide interim cash support to refugees who would otherwise be eligible for the Temporary Assistance for Needy Families (TANF) program, in addition to those refugees who would otherwise be eligible for the Refugee Cash Assistance (RCA) program.

Consistent with section 412(e)(7)(B) of the Immigration and Nationality Act (INA), refugees in projects funded under this announcement will be precluded from receiving cash assistance under the TANF program or the RCA program during the period of support provided under the Wilson/Fish project. If alternative medical assistance is included, participants will be precluded from receiving RMA or Medicaid during the period of support provided under the Wilson/Fish project.

Applications will be screened and evaluated as indicated in this program announcement. Awards will be contingent on the outcome of the competition and the availability of funds.

ORR encourages prospective applicants to consult with ORR during the development of the application.

Program Purpose

The purpose of the announcement is to enable applicants to implement alternative projects under one of two categories in order to provide interim financial assistance, social services and case management to refugees in a manner that encourages self-sufficiency, reduces the likelihood of welfare dependency and fosters greater coordination among resettlement agencies and services providers in a community. ORR is interested in projects which optimize all available resources—from Federal and State governments and the community—to make the resettlement period as beneficial as possible. An integrated system of assistance and services is an essential characteristic of a Wilson/Fish project.

Although ORR has included the provision of medical assistance as an allowable activity under this announcement, the best medical assistance option available in most circumstances is the existing State-administered program of refugee medical assistance or Medicaid. The option to provide medical assistance under this announcement is available under two circumstances: (a) Primarily for Category One projects where a State chooses to discontinue participation in all areas of the refugee program, including the provision of refugee medical assistance; and (b) under Category Two, in the event that there are significant problems in the provision of medical assistance to refugees in a State and where an alternative private medical assistance plan or provider is available which is able to provide a more appropriate and a timely range of services for refugees at an affordable cost.

In the case where an alternative medical assistance system is approved, refugee participants would not be permitted to receive Medicaid or RMA during the period of support provided under the Wilson/Fish project because they would be receiving comparable medical assistance.

Legislative Authority

In October, 1984, Congress amended the Immigration and Nationality Act to provide authority for the Secretary of Health and Human Services to implement alternative projects for refugees. This provision, known as the Wilson/Fish Amendment, 8 U.S.C. 1522(e)(7), provided:

(7)(A) The Secretary shall develop and implement alternative projects for refugees who have been in the United States less than thirty-six months, under which refugees are provided interim support, medical services, support services, and case management, as needed, in a manner that encourages self-sufficiency, reduces welfare dependency, and fosters greater coordination among the resettlement agencies and service providers * * *.

(B) Refugees covered under such alternative projects shall be precluded from receiving cash or medical assistance under any other paragraph of this subsection or under title XIX or part A of title IV of the Social Security Act * * *.

(D) To the extent that the use of such funds is consistent with the purposes of such provisions, funds appropriated under section 414(a) of this Act, part A of title IV of the Social Security Act, or title XIX of such Act, may be used for the purpose of implementing and evaluating alternative projects under this paragraph.

Funding Availability

ORR will consider requests for funding based on the merits of the proposals. Requests do not have to be limited to the amount being spent for current assistance and services, but such amounts will be one of the measures used in considering the reasonableness of the request.

Interim cash and medical assistance under the Wilson/Fish program will be provided from funds appropriated under the Transitional Assistance and Medical Services (TAMS) line item. Funds for social services under the Wilson/Fish program will be provided separately through the formula refugee social services grant. Social services funding will be based upon each State's allocation listed in the Final Social Services Notice.

Applicants are encouraged to cover all or a portion of the costs of interim financial support in this program for TANF-eligible refugees by either seeking a relevant portion of State and Federal TANF funds from the State TANF agency, or seeking State-only funds which may be counted under certain circumstances toward the State's maintenance of effort (MOE) requirement. Those refugees supported by Federal or State TANF funds would be subject to TANF participation and work requirements, while refugees supported with State-only funds would not be subject to TANF rules. Medical services for TANF-eligible refugees must be charged to the State Medicaid program if otherwise eligible.

Definition of Terms

Interim Financial Support: To provide financial assistance adequate to meet the basic needs of refugees otherwise eligible for RCA and/or for TANF at a level generally comparable to assistance allowable under those programs. The greater part of this assistance is expected to be provided in the form of cash payments to refugees, but may also include incentive bonuses for early employment or payment for work-related expenses such as transportation or tools.

II. Award Information

Funding Instrument Type: Cooperative Agreement.

Description of Federal Substantial Involvement with Cooperative Agreement: Under the cooperative agreement, the grantee will be expected to submit for Federal review and approval the:

(1) Design of the service delivery model and amendments to the model.

(2) Policy manual and proposed amendments to manual.

(3) Staffing component and grantee is to promptly notify ORR of any changes regarding top level staff.

(4) Quarterly performance and expenditure reports.

(5) Schedule for monitoring sub-grantees (if applicable) with respect to location, dates and topics.

(6) Reports following site visits.

Anticipated Total Funding Amount: $22,000,000 annually.

Anticipated Number of Awards: 11-13.

Ceiling on Amount of Individual Awards: none.

Floor on Amount of individual awards: none.

Average Anticipated Award Amount: $1,600,000 per budget period.

Length of Project Period: Five years, funded in five 12-month budget periods.

III. Eligibility Information

1. Eligible Applicants: State governments;

County governments;

Nonprofits having a 501(c)(3) status with the IRS, other than institutions of higher education;

Nonprofits that do not have a 501(c)(3) status with the IRS, other than institutions of higher education;

Others.

Additional Information of Eligibility:

In addition to persons who meet all requirements of 45 CFR 400.43, “Requirements for documentation of refugee status”, eligibility for refugee program services and assistance also includes: (1) Asylees ² admitted under section 208 of the Immigration and Nationality Act (2) Cuban and Haitian entrants under section 501 of the Refugee Education Assistance Act of 1980 (Pub. L. 96-422); (3) certain Amerasians from Vietnam who are admitted to the U.S. as immigrants under section 584 of the Foreign Operations, Export Financing, and Related Program Appropriations Act, 1988, as included in the FY 1988 Continuing Resolution (Pub. L. 100-202); (4) certain Amerasians from Vietnam, including U.S. citizens, under title II of the Foreign Operations, Export Financing, and Related Programs Appropriations Acts, 1989 (Pub. L. 100-461), 1990 (Pub. L. 101-167), and 1991 (Pub. L. 101-513); and (5) victims of a severe form of trafficking as required by section 107(b)(1)(A) of the Victims of Trafficking and Violence Protection Act of 2000 (Pub. L. 106-386) (22 U.S.C. 7105(b)(1)(A). For convenience, the term “refugee” is used in this notice to encompass all such eligible persons unless the specific context indicates otherwise.

² The time-eligibility for ORR assistance and services begins from the date asylum is granted (see ORR State Letter 00-12).

Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for an agency or national parent organization and a statement signed by the parent organization that the applicant organization is a local non-profit affiliate.

Because a Wilson/Fish project will have a potential impact on a State's or locality's budgetary needs for cash assistance and/or medical assistance, as well as social services, a non-State applicant must coordinate its activities with the State Refugee Coordinator in the development and implementation of an alternative project under Category Two of this announcement. State applicants should also coordinate their proposed activities with other participants in refugee resettlement such as voluntary resettlement agencies, mutual assistance associations, community and faith-based organizations, if applicable.

2. Cost Sharing and Matching: Cost sharing or matching funds are not required for applications submitted under this program announcement.

3. Other: On June 27, 2003, the Office of Management and Budget published in the Federal Register a new Federal policy applicable to all Federal grant applicants. The policy requires all Federal grant applicants to provide a Dun and Bradstreet Data Universal Numbering System (DUNS) number when applying for Federal grants or cooperative agreements on or before October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Eligible applicants include public and private non-profit organizations, such as States, private voluntary resettlement agencies, a consortium of agencies, local government entities, refugee mutual assistance associations, community and faith-based organizations.

Private, nonprofit organizations are encouraged to submit with their applications the survey located under “Grant Related Documents and Forms” titled “Survey for Private, Non-Profit Grant Applicants” at http://www.acf.hhs.gov/programs/ofs/forms.htm.

IV. Application and Submission Information

1. Address To Request Application Package

Carl Rubenstein, Office of Refugee Resettlement, Administration for Children and Families, 370 L'Enfant Promenade SW., 8th Floor West, Washington, DC 20447, E-mail: crubenstein@acf.hhs.gov, Telephone: (202) 205-5933, URL: http://www.acf.hhs.gov/programs/orr/funding/akit.htm.

2. Content and Form of Application Submission

Application Content

Each application must include the following components:

1. Table of Contents.

2. Project Summary/Abstract of the Proposed Project—very brief, not to exceed one page, that would be suitable for use in an announcement that the application has been selected for a grant award and which identifies the type of project, the target population and the major elements of the work plan.

3. Completed Standard Form 424—that has been signed by an Authorized Official of the organization applying for the grant who has the authority to obligate the organization legally.

4. Standard Form 424A—Budget Information-Non-Construction Programs.

5. Narrative Budget Justification—for each object class category required under Section B, Standard Form 424A.

6. Project Narrative—A narrative that addresses issues described in the “Application Review Information” and the “Review and Selection Criteria” sections of this announcement.

Application Format

Each application should include one signed original and two additional copies. Faxed applications are not acceptable. Applications should be submitted on white 8.5 × 11 inch paper only. Do not use colored, oversized or folded materials. The font size may be no smaller than 12 pitch and the margins must be at least one inch on all sides. Attachment and appendices should be used only to provide supporting documentation such as maps, administration charts, position descriptions, resumes, and letters of intent for partnership agreements. Please do not include books or video tapes as they are not easily reproduced and are therefore inaccessible to the reviewers. Each page should be numbered sequentially, including the attachments or appendices.

Required Standard Forms

Applicants for financial assistance under this announcement must file the Standard Form (SF) 424, Application for Federal Assistance; SF-424A, Budget Information—Non-Construction Programs; SF-424B, Assurances—Non-Construction Programs. The forms may be reproduced for use in submitting applications. An application with an original signature and two copies is required.

Applicants must provide a certification concerning lobbying. Prior to receiving an award in excess of $100,000, applicants should furnish an executed copy of the lobbying certification (approved by the Office of Management and Budget under control number 0348-0046). Applicants must sign and return the certification with their application.

Applicants must also understand they will be held accountable for the smoking prohibition included within Public Law 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form.

Applicants have the option of omitting from the application copies (not to original) specific salary rates or amounts for individuals specified in the application budget and Social Security Numbers. The copies may include summary salary information.

You may submit your application to us in either electronic or paper format.

To submit an application electronically, please use the www.Grants.gov apply site. If you use Grants.gov, you will be able to download a coy of the application package, complete it off-line, and then upload and submit the application via the Grants.gov site. You may not e-mail an electronic copy of a grant application to us.

Please note the following if you plan to submit your application electronically via Grants.gov:

• Electronic submission is voluntary;

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.

• We may request that you provide original signatures on forms at a later date.

• You may access the electronic application for this program on www.Grants.gov.

• You must search for the downloadable application package by the CFDA number.

Private non-profit organizations may voluntarily submit with their applications the survey located under “Grant Related Documents and Forms” titled “Survey for Private, Non-Profit Grant Applicants” at http://www.acf.hhs.gov/programs/ofs/forms.htm.

Please see Section V. 1. Criteria, for instructions on preparing the project summary/abstract and the full project description.

3. Submission Dates and Times

The closing time and date for receipt of applications is 4:30 p.m. (Eastern Time Zone) on the date noted above. Mailed or hand carried applications received after 4:30 p.m. on the closing date will be classified as late.

Deadline: Mailed applications shall be considered as meeting an announced deadline if they are received on or before the deadline time and date at the U.S. Department of Health and Human Services, Administration for Children and Families, Office of Grants Management, Division of Discretionary Grants, 370 L'Enfant Promenade, SW., Washington, DC 20447. Applicants are responsible for mailing applications well in advance, when using all mail services, to ensure that the applications are received on or before the deadline time and date.

Applications hand-carried by applicants, applicant couriers, other representatives of the applicant, or by overnight/express mail couriers shall be considered as meeting an announced deadline if they are received on or before the deadline date, between the hours of 8 a.m. and 4:30 p.m., EST, at the U.S. Department of Health and Human Services, Administration for Children and Families, Office of Grants Management, Division of Discretionary Grants, ACF Mailroom, 2nd Floor (near loading dock), Aerospace Building, 901 D Street, SW., Washington, DC 20024, between Monday and Friday (excluding Federal holidays). This address must appear on the envelope/package containing the application with the note. Applicants are cautioned that express/overnight mail services do not always deliver as agreed.

Late applications: Applications which do not meet the criteria above are considered late applications. ACF shall notify each late applicant that its application will not be considered in the current competition.

Any application received after 4:30 p.m. on the deadline date will not be considered for competition. Applicants using express/overnight mail services should allow two working days prior to the deadline date for receipt of applications. (Applicants are cautioned that express/overnight mail services do not always deliver as agreed).

Extension of deadlines: ACF may extend application deadlines when circumstances such as acts of God (floods, hurricanes, etc.) occur, or when there are widespread disruptions of mail service, or in other rare cases. A determination to extend or waive deadline requirements rests with the Chief Grants Management Officer.

What to submit | Required content | Required form or format | When to submit
Table of Contents | As described above | Consistent with guidance in “Application Format” section of this announcement | By application due date.
Project Summary/Abstract | Summary of application request | ......Do | Do.
SF424,SF424A, SF424B | Per required form | May be found at http://www.acf.hhs.gov/programs/orr/funding/akit.htm | Do.
Narrative Budget Justification | As described above | Consistent with guidance in “Application Format” section of this announcement | Do.
Project Narrative | A Narrative that addresses issues described in the “Application Review Information” and the “Review and Selection Criteria” sections of this announcement | ......Do | Do.
Certification regarding lobbying | Per required form | May be found at http://www.acf.hhs.gov/programs/orr/funding/akit.htm | Do.
Disclosure of Lobbying Activities (SF-LLL) | ......Do | ......Do | Do.
Environmental Tobacco Smoke Certification | ......Do | ......Do | Do.

Additional Forms

Private-non-profit organizations may submit with their applications the additional survey located under “Grant Related Documents and Forms” titled “Survey for Private, Non-Profit Grant Applicants”.

What to submit | Required content | Required form or format | When to submit
Survey for Private, Non-Profit Applicants | Per form | May be found on http://www.acf.hhs.gov/programs/ofs/forms.htm | By application due date.

4. Intergovernmental Review

State Single Point of Contact (SPOC), Notification Under Executive Order 12372

This program is covered under Executive Order (E.O.) 12372, “Intergovernmental Review of Federal Programs”, and 45 CFR Part 100, “Intergovernmental Review of Department of Health and Human Services Programs and Activities”. Under the Order, States may design their own processes for reviewing and commenting on proposed Federal assistance under covered programs.

As of January, 2003, of the most recent SPOC list, the following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants, 370 L'Enfant Promenade, SW., Mail Stop 6C-462, Washington, DC 20447. The official list, including addresses, of the jurisdictions elected to participate in E.O. 12372 can be found at: http://www.whitehouse.gov/omb/grants/spoc.html.

A list of the Single Points of Contact for each State and Territory is included with the application materials in this announcement.

5. Funding Restrictions

Pre-award costs cannot be charged to this grant.

6. Other Submission Requirements

Electronic Address to Submit Applications: www.Grants.Gov.

Submission by Mail: Mailed applications shall be considered as meeting the announced deadline if they are received on or before the deadline time and date at the U.S. Department of Health and Human Services, Administration for Children and Families, Division of Discretionary Grants, Attention: Sylvia Johnson, Division of Discretionary Grants, ACF, 370 L'Enfant Promenade, SW., Washington, DC 20447. Applicants are responsible for mailing applications well in advance, when using all mail services, to ensure that the applications are received on or before the deadline time and date.

Hand Delivery: Applications hand carried by applicants, applicant couriers, other representatives of the applicant, or by overnight/express mail couriers shall be considered as meeting an announced deadline if they are received on or before the deadline date, between the hours of 8 a.m. and 4:30 p.m., EST, at the U.S. Department of Health and Human Services, Administration for Children and Families, Division of Discretionary Grants ACF Mailroom, 2nd Floor (near loading dock), Aerospace Center, 901 D Street, SW., Washington, DC 20024, between Monday and Friday (excluding Federal holidays). This address must appear on the envelope/package containing the application with the note “Attention: Sylvia Johnson, Division of Discretionary Grants”. Applicants are cautioned that express/overnight mail services do not always deliver as agreed.

ACF cannot accommodate transmission of applications by fax.

Electronic Submission: Please see Section IV. 2. Content and Form of Application Submission, for guidelines and requirements when submitting applications electronically.

V. Application Review Information

1. Criteria

Paperwork Reduction Act of 1995 (Pub. L. 104-13)

Public reporting burden for this collection of information is estimated to average 20 hours per overall response, including the time for reviewing instructions, gathering and maintaining the data needed, and reviewing the collection of information.

The following information collections are included in the program announcement: The Uniform Project Description is approved under OMB control number 0970-0139, which expires 3/31/2004.

An agency may not conduct or sponsor, and a person is not required to respond to, a collection of information unless it displays a currently valid OMB control number.

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions

ACF is particularly interested in specific factual information and statements of measurable goals in quantitative terms. Project descriptions are evaluated on the basis of substance, not length. Extensive exhibits are not required. Cross referencing should be used rather than repetition. Supporting information concerning activities that will not be directly funded by the grant or information that does not directly pertain to an integral part of the grant funded activity should be placed in an appendix.

Pages should be numbered and a table of contents should be included for easy reference.

General Instructions for Preparing a Full Project Description

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. All applicants will be required to establish proposed performance goals for each of the six ORR performance outcome measures for the upcoming Federal fiscal year. Proposed performance goals must be included in the application for each performance measure. The six ORR performance measures are: entered employments, cash assistance reductions due to employment, cash assistance terminations due to employment, 90-day employment retentions, average wage at placement, and entered employments with available health benefits. Wilson/Fish program activity and progress achieved toward meeting performance outcome goals are to be reported quarterly on the ORR-6, the “Quarterly Performance Report.” Identify other benefits refugees will realize as a result of the Wilson/Fish project, including enhanced acculturation and other social adjustment measures. Describe how and what data will be collected and how this data will be used to analyze project results. Describe the plan and schedule for project monitoring.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Geographic Location

Describe the precise location of the project and boundaries of the area to be served by the proposed project. Maps or other graphic aids may be attached.

Additional Information

Following are requests for additional information that need to be included in the application:

Staff and Position Data

Provide a biographical sketch for each key person appointed and a job description for each vacant key position. A biographical sketch will also be required for new key staff as appointed.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Third-Party Agreements

Include written agreements between grantees and sub-grantees or subcontractors or other cooperating entities. These agreements must detail scope of work to be performed, work schedules, remuneration, and other terms and conditions that structure or define the relationship.

Letters of Support

Provide statements from community, public and commercial leaders that support the project proposed for funding. All submissions should be included in the application or by application deadline.

Evaluation Criteria

Evaluation Criteria I: Approach (Maximum: 30 points)

The proposed project design is clear, logical, complete and reasonable in terms of (a) the proposed strategies related to the target population, the geographic area to be covered, the adequacy of the system, the policies and administration of interim cash support; (b) the likelihood that the relationship between the interim support and services described will result in a program which delivers quality resettlement; and (c) the adequacy of the cash assistance policies and procedures for appeals and fair hearings. The application has included adequate evidence of consultation with other relevant agencies and actors, e.g., the State Coordinator in a non-State application and the voluntary agencies and refugee service providers in a State application. The application will be evaluated on the extent to which it addresses the following:

a. The target population (numbers, ethnicity, and other characteristics such as age, family composition, ability to speak English, and labor skills); and the targeted populations by the anticipated category of public assistance for which the population may otherwise be eligible.

b. The proposed management plan indicating who has fiscal and programmatic responsibility for the overall project and for individual components. Applicant identifies the organizational structure and includes a staffing pattern and key position descriptions. Sources and allocation of funds for administration and staffing should be detailed and clearly shown for each position and activity.

c. The proposed services and how they will be provided, e.g., employment and case management services.

d. The proposed system for providing cash support, including: (i) The income standards for cash assistance eligibility; (ii) payment levels to be used to provide cash assistance to eligible refugees; (iii) assurance that the payment levels established are not lower than the State TANF amount; (iv) a detailed description of how benefit payments will be structured, including the employment incentives and/or income disregards to be used, if any; (v) a description of how refugees residing within the project area will have appropriate access to cash assistance and services; (vi) a description of the eligibility criteria; (vii) a description of provisions for sanctions for non-cooperation as required by section 412(e)(2) of the INA; (viii) a description of the constitutionally required due process procedures to be used to ensure appropriate protections and due process for refugees, such as notice of adverse action and the right to mediation (in the case of a failure to accept employability services), a predetermination hearing, and an appeal to an independent entity; and (ix) a description of the procedures to be used to safeguard the disclosure of information on refugee clients.

e. The proposed system for providing alternative medical assistance, if applicable, including: (a) The type and range of services to be made available (e.g., physician, inpatient, prescription, surgical, emergency, dental, etc.); (b) a comparison of the system and range of medical services proposed to the currently available RMA and Medicaid system and services; (c) the type of provider proposed and history of the proposed provider, especially in providing services to low-income and ethnically diverse communities; (d) a description of how refugees, especially those who do not speak English or who have limited English skills, will have equal, easy, and timely access to medical assistance; (e) variables which will affect the cost of this assistance. Include a comparison of current costs with proposed costs. A description of the constitutionally required due process procedures described in d(viii), above, must also be included for medical assistance alternative projects.

f. Assurances that the written policies of the alternative project will be made available to refugee clients, including agency eligibility standards, duration and amount of cash assistance payments and medical assistance (if applicable), the requirements for participation in services, the penalties for non-cooperation, and client rights and responsibilities to ensure that refugees understand what they are eligible for, what is expected of them, and what protections are available to them. Assurance that agency policy materials will be made available to refugee clients in English and in their own language.

g. How all activities of the project will be coordinated among resettlement agencies and service providers in the community, and how refugees will have access to other programs in the community, such as the Children's Health Insurance Program (CHIP), child care services, and other support programs for working families and individuals.

Evaluation Criteria II: Objectives and Need for Assistance (Maximum: 20 points)

The improvements proposed to be implemented by the project are based on a thorough review and description of the current resettlement system in the geographic area to be covered, in terms of the services and assistance available; the ability of refugees to access culturally and linguistically appropriate services; the employment outcomes achieved (types of jobs currently available and length of time after arrival required to obtain these jobs); and the post-employment services available. The application will be evaluated on the extent to which it clearly describes:

a. The improvements to be made by the alternative strategy, stated in terms of the population to be served, assistance and services to be provided, and outcomes to be achieved.

b. The planning and preparation for the project, including the primary participants involved in planning for this project and those institutions and organizations consulted, such as the State (if the applicant is applying under category two), refugee mutual assistance associations, local community and faith-based agencies, national voluntary organizations, and other agencies that serve refugees.

Evaluation Criteria III: Organizational Profiles (Maximum: 20 points)

The application must demonstrate that the organization as described has the capacity and resources for effective administration and management of the project, project staff are qualified and have the necessary expertise to manage the project and to deliver bilingual and bicultural services and assistance to refugees in the manner described. The application must describe a system for monitoring and reporting that is attainable and adequate considering the organizational capacity and resources described.

Evaluation Criteria IV: Results or Benefits Expected (Maximum: 15 points)

The outcomes proposed are reasonable, and the methodology for collecting outcome and other data are clearly described and adequate. The application establishes proposed performance goals using the six Government Performance and Results Act (GPRA) measures currently in use in the refugee resettlement program. The six ORR performance measures are: The number of employable refugees in the caseload, the number of entered employments, the number of cash assistance reductions due to employment, the number of cash assistance terminations due to employment, the average hourly wage at entered employment, the number of 90-day employment retentions, and the number of entered employments with health benefits available. The application identifies other benefits refugees will realize as a result of the Wilson/Fish project, including enhanced acculturation and other social adjustment measures.

Evaluation Criteria V: Budget and Budget Justification (Maximum: 15 points)

The budget is clear, logical, complete, and reasonable in relation to the expected activities and outcomes. The line-item budget narrative is understandable and adequately justifies the costs proposed. The data provided to justify the budget are consistently and logically presented in terms of the population to be served. ORR is also interested in the following:

1. A client loading chart showing the anticipated arrival of clients over the budget period and the projected interim assistance (and medical assistance, if applicable) needed on a monthly basis throughout the year to assist those refugees. Provide assumptions about the length of time clients are expected to need that assistance.

2. Identification of administrative costs required for the provision of interim cash assistance and for services separately from those costs projected as part of the overall role of coordinating the refugee program in the geographic area.

3. The amount and source of any additional funding, including in-kind contributions, that will help support the project.

4. If medical assistance is proposed, provide a detailed budget and a narrative concerning the underlying assumptions used in developing the budget, such as the system for co-payments and the proposed amounts of co-payments, if applicable, and other variables such as deductibles, premium amounts, prescription costs, etc.

2. Review and Selection Process

Initial ORR Screening

Each application submitted under this program announcement will undergo a pre-review to determine that (1) the application was received by the applicable closing date and submitted in accordance with the instructions in this announcement; and (2) the applicant is an eligible public or private non-profit agency, and/or a faith-based or community organization, and therefore eligible for funding. ORR will return to the applicant those applications which are found not eligible or incomplete.

Competitive Review and Evaluation Criteria

Applications which pass the initial ORR screening will be evaluated and rated by an independent review panel on the basis of specific evaluation criteria. The evaluation criteria were designed to assess the quality of a proposed project, and to determine the likelihood of its success. The evaluation criteria are closely related and are considered as a whole in judging the overall quality of an application. Points are awarded only to applications that are responsive to the evaluation criteria within the context of this program announcement.

Non-Federal Reviewers

ORR may use Federal as well as non-Federal reviewers. Therefore, applicants have the option of omitting from the application copies (not the original) of specific salary rates or amounts of individuals specified in the application budget and Social Security Numbers. The copies may include summary salary information.

3. Anticipated Announcement and Award Dates

ORR anticipates that successful and unsuccessful applicants will be notified of the results of this grant competition within 90 days of the application deadline date.

VI. Award Administration Information

1. Award Notices

Successful applicants will receive, by postal mail, a cover letter signed by the ORR Director, attaching the official notice of award, the Financial Assistance Award (FAA) notice, which is signed by the grants management officer. As indicated in part V.3. above, ORR anticipates that successful and unsuccessful applicants will be notified of the results of this grant competition within 90 days of the application deadline.

Organizations whose applications will not be funded will be notified in writing.

2. Administrative and National Policy Requirements

45 CFR Part 74

45 CFR Part 92

45 CFR Part 400, where applicable.

3. Reporting Requirements

A. Programmatic Reports: Quarterly

B. Financial Reports: Quarterly

C. Special Reporting Requirements:

Grantees are required to file the Financial Status Report (SF-269) and the Program Progress Reports on a quarterly basis. Funds issued under these awards must be accounted for and reported upon separately from all other grant activities. A final Financial Status Report and Program Progress Report shall be due 90 days after the project period end date. Grantees must maintain adequate records to track and report on project outcomes and expenditures by budget line item.

The official receipt point for the original of all reports and correspondence is the ORR Grants Officer. An original and one copy of each report shall be submitted within 30 days of the end of each reporting period: the original addressed to the Grants Officer, Office of Grants Management; a copy addressed to the ORR Project Officer, Office of Refugee Resettlement (see section VII below for contact information).

VII. Agency Contacts

Program Office Contact: Carl Rubenstein, Office of Refugee Resettlement, 370 L'Enfant Promenade, SW. 8th Floor West, Aerospace Building, Washington, DC 20447-0002, E-mail: crubenstein@acf.hhs.gov, Telephone: (202) 205-5933.

Grants Management Office Contact: Sylvia Johnson, Office of Grants Management, Division of Discretionary Grants, 370 L'Enfant Promenade SW. 4th Floor, Aerospace Building, Washington, DC 20447-0002, E-mail: syjohnson@acf.hhs.gov, Telephone: (202) 401-4524.

VIII. Other Information

None.

Dated: March 23, 2004.
Nguyen Van Hanh,
Director, Office of Refugee Resettlement.

[FR Doc. 04-7541 Filed 4-2-04; 8:45 am]

BILLING CODE 4184-01-P